SMALL BUSINESS ADMINISTRATION

[Declaration of Disaster #P046; Amendment #1]

State of New York

In accordance with a notice received from the Department of Homeland Security—Federal Emergency Management Agency, effective August 18, 2004, the above numbered Public Assistance declaration is hereby amended to include Hamilton County in the State of New York as a disaster area due to damages caused by severe storms and flooding occurring on May 13, 2004, and continuing through June 17, 2004.

All other information remains the same, i.e., the deadline for filing applications for physical damage is October 4, 2004.

(Catalog of Federal Domestic Assistance Program Nos. 59008.)
Dated: August 30, 2004.
Herbert L. Mitchell,
Associate Administrator for Disaster Assistance.

[FR Doc. 04-20302 Filed 9-7-04; 8:45 am]

BILLING CODE 8025-01-P